DEPARTMENT OF COMMERCE

International Trade Administration

[A-401-806]

Stainless Steel Wire Rod From Sweden: Notice of Extension of Time Limit for 2004-2005 Administration Review

AGENCY: Import Administration, International Trade Administration, Department of Commerce.

EFFECTIVE DATE: July 18, 2006.

FOR FURTHER INFORMATION CONTACT: Brian Smith, AD/CVD Operations, Office 2, Import Administration, International Trade Administration, U.S. Department of Commerce, 14th Street and Constitution Avenue, NW, Washington, DC 20230; telephone (202) 482-1766.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On April 26, 2006, the Department partially extended the time limit for the preliminary results in this review until August 1, 2006. See Stainless Steel Wire Rod from Sweden: Notice of Extension of Time Limit for 2004-2005 Administrative Review, 71 FR 25813 (May 2, 2006).

Extension of Time Limits for Preliminary Results

As a result of recent meetings which took place between the interested parties and Department officials on June 19 and 22, 2006, the Department requires additional time to consider a model matching criteria issue raised by the respondent in this review and seek additional comment on the matter. Thus, it is not practicable to complete the preliminary results of this review by August 1, 2006. Therefore, the Department is fully extending the time limit for completion of the preliminary results to 365 days, in accordance with section 751(a)(3)(A) of the Act. The preliminary results are now due no later than October 2, 2006, the next business day after 365 days from the last day of the anniversary month of the order. The deadline for the final results continues to be 120 days after publication of the preliminary results.

We are issuing and publishing this notice in accordance with sections 751(a)(1) and 777(i)(1) of the Act.

Dated: July 11, 2006.
Stephen J. Claeys,
Deputy Assistant Secretary for Import Administration.

[FR Doc. E6-11291 Filed 7-17-06; 8:45 am]

BILLING CODE 3510-DS-S